AGENCY FOR INTERNATIONAL DEVELOPMENT

Notice of Renewal of Charter of the Advisory Committee on Voluntary Foreign Aid

AGENCY: United States Agency for International Development.

ACTION: Notice of charter renewal.

SUMMARY: Pursuant to the Federal Advisory Committee Act, notice is hereby given of the renewal of the Charter of the Advisory Committee on Voluntary Foreign Aid.

Purpose of the Committee

The Advisory Committee on Voluntary Foreign Aid (ACVFA) brings together USAID and private voluntary organizations (PVO) officials, representatives from universities, international nongovernment organizations (NGOs), U.S. businesses, and government, multilateral, and private organizations to foster understanding, communication, and cooperation in the area of foreign aid.

The Charter is being renewed for two years effective from the date of filing on January 13, 2015.

FOR FURTHER INFORMATION CONTACT: Jayne Thomisee, 202-712-5506.

Dated: January 9, 2015.
Christa White,
Committee Management Officer.

[FR Doc. 2015-00443 Filed 1-13-15; 11:15 am]

BILLING CODE 6116-02-P